DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Economic Value of Puerto Rico's Coral Reef Ecosystems for Recreation/Tourism.

OMB Control Number: None.

Form Number(s): NA.

Type of Request: Regular submission (request for a new information collection).

Number of Respondents: 32.

Average Hours per Response: 2 hours.

Burden Hours: 64.

Needs and Uses: This request is for a regular submission (new collection).

NOAA and the U.S. Environmental Protection Agency (EPA) have entered a partnership to estimate the market and non-market economic values of Puerto Rico's coral reef ecosystems. Estimates will be made for all ecosystem services for the Guanica Bay Watershed and for recreation-tourism for all of Puerto Rico's coral reef ecosystems.

The required information is to conduct focus groups to help in designing the full surveys of visitors and residents of Puerto Rico. The four focus groups; two visitor and two resident focus groups, will be used to address the attributes of coral reef ecosystems that people may consider important, and the levels of the attributes to be valued. Attributes would include natural attributes such as water clarity/visibility, coral cover and diversity, and fish abundance and diversity. In addition, issues such as crowded conditions or number of other users that users (e.g. SCUBA divers, snorkelers, recreational fishers, and wildlife viewers) see while doing their activities on the reefs will be evaluated. This set of focus groups will be conducted one time only.

Affected Public: Individuals or households.

Frequency: One time.

Respondent's Obligation: Voluntary.

OMB Desk Officer: OIRA_Submission@omb.eop.gov.

Copies of the above information collection proposal can be obtained by calling or writing Jennifer Jessup, Departmental Paperwork Clearance Officer, (202) 482-0336, Department of Commerce, Room 6616, 14th and Constitution Avenue NW., Washington, DC 20230 (or via the Internet at JJessup@doc.gov).

Written comments and recommendations for the proposed information collection should be sent within 30 days of publication of this notice to OIRA_Submission@omb.eop.gov.

Dated: December 19, 2012.
Gwellnar Banks,
Management Analyst, Office of the Chief Information Officer.

[FR Doc. 2012-30977 Filed 12-21-12; 4:15 pm]

BILLING CODE 3510-NK-P